DEPARTMENT OF ENERGY

Federal Energy Regulatory Commission

[Docket No. ER03-1398-001, et al.]

South Carolina Electric & Gas Company, et al.; Electric Rate and Corporate Filings

November 7, 2003.

The following filings have been made with the Commission. The filings are listed in ascending order within each docket classification.

1. South Carolina Electric & Gas Company

[Docket No. ER03-1398-001]

Take notice that on November 4, 2003, South Carolina Electric & Gas Company (SCE&G) filed with the Federal Energy Regulatory Commission an Answer/Amendment to the protest filed by Columbia Energy LLC (Columbia Energy) in reference to documents filed by SCE&G on September 29, 2003, constituting the agreement between SCE&G and Columbia Energy for the interconnection of the Columbia Energy facilities located at Columbia, SC, with the SCE&G transmission system (the Interconnection Agreement). The Answer included, for the first time, support for the Operations and Maintenance fee (O&M) in the Interconnection Agreement, as well as the justification for treating the interconnection facilities as direct assignment facilities whose costs are the responsibility of Columbia Energy.

Comment Date: November 24, 2003.

2. California Independent System Operator Corporation

[Docket No. ER04-115-000]

Take notice that on October 31, 2003, California Independent System Operator Corporation (ISO) pursuant to Section 205 of the Federal Power Act and Section 35 of the Commission Regulations, submitted for filing revisions of its Grid Management Charge (GMC) rate formula. ISO states that the GMC is the rate through which it recovers administrative and operating costs, including the cost incurred in establishing the ISO prior to the commencement of operations. The ISO requests an effective date of January 1, 2004 for the revised GMC rate.

Comment Date: November 21, 2003.

3. Southern California Edison Company

[Docket No. ER04-122-000]

Take notice, that on October 31, 2003, Southern California Edison Company (SCE) tendered for filing revisions to its Transmission Owner Tariff, FERC Electric Tariff, Second Revised Volume No. 6, and to certain Existing Transmission Contracts to reflect a change to SCE's Reliability Services Rates.

SCE states that copies of this filing were served upon the Public Utilities Commission of the State of California, the California Independent System Operator Corporation, the California Electricity Oversight Board, Pacific Gas and Electric Company, San Diego Gas & Electric Company, and the wholesale customers that have loads in SCE's historic control area but are not Participating Transmission Owners in the California Independent System Operator.

Comment Date: November 21, 2003.

4. FPL Energy 251 Wind, LLC

[Docket No. ER04-124-000]

Take notice that on October 31, 2003, FPL Energy 251 Wind, LLC (FPLE 251) tendered for filing a Notice of Succession pursuant to Section 35.16 of the Commission's regulations, 18 CFR 35.16. FPLE 251 states it is succeeding to rate schedules of ZWHC LLC.

Comment Date: November 21, 2003.

5. Indiana Michigan Power Company

[Docket No. ER04-125-000]

Take notice that on October 31, 2003, Indiana Michigan Power Company (I&M) tendered for filing with the Commission revised electric service agreements with the following customers: City of Mishawaka, Indiana; Village of Paw Paw, Michigan; Town of Avilla, Indiana; City of Bluffton, Indiana; City of Garrett, Indiana; City of Gas City, Indiana; Town of New Carlisle, Indiana; City of Niles, Michigan; Town of Warren, Indiana; and City of South Haven, Michigan. I&M states that the revised agreements, which are designated as Third Revised Service Agreement Nos. 2, 3 and 14 through 21, respectively, extend the term of the current service agreements for an additional two years, through December 31, 2005, and make certain other agreed upon revisions.

I&M requests an effective date of January 1, 2004, for the revised service agreements. I&M further states that a copy of its filing was served upon counsel for the ten (10) customers, the Indiana Utility Regulatory Commission and the Michigan Public Service Commission.

Comment Date: November 21, 2003.

6. FPL Energy Cabazon Wind, LLC

[Docket No. ER04-126-000]

Take notice that on October 31, 2003, FPL Energy Cabazon Wind, LLC (FPLE Cabazon) tendered for filing a Notice of Succession pursuant to Section 35.16 of the Commission's regulations, 18 CFR 35.16. FPLE Cabazon is succeeding to rate schedules of Cabazon Power Partners LLC.

Comment Date: November 21, 2003.

7. FPL Energy Green Power Wind, LLC

[Docket No. ER04-127-000]

Take notice that on October 31, 2003, FPL Energy Green Power Wind, LLC tendered for filing an application for authorization to sell energy and capacity at market-based rates pursuant to section 205 of the Federal Power Act.

Comment Date: November 21, 2003.

8. Illinois Power Company

[Docket No. ER04-128-000]

Take notice that on October 31, 2003, Illinois Power Company (Illinois Power) tendered for filing First Revised Interconnection and Operating Agreement entered into by Illinois Power and Corn Belt Energy Generation Cooperative (Service Agreement No. 335). Illinois Power requests an effective date of October 3, 2003.

Comment Date: November 21, 2003.

9. American Electric Power Service Corporation

[Docket No. ER04-129-000]

Take notice that on October 31, 2003, American Electric Power Service Corporation (AEPSC) as agent for Public Service Company of Oklahoma (PSO) tendered for filing pursuant to Section 35.15 of the Federal Energy Regulatory Commission's regulations, 18 CFR 35.15, a Notice of Cancellation of a Contract for Electric Service between PSO and The City of Collinsville, Oklahoma (Collinsville) under PSO FERC Rate Schedule No. 237 (Power Agreement). AEPSC requests that this Power Agreement be terminated because Collinsville cancelled the contract and electric service was discontinued on September 29, 2003. The Power Agreement was accepted for filing by the Commission in Docket ER93-435-000. AEPSC requests an effective date of October 1, 2003 for the cancellation.

AEPSC states that it has served copies of the filing upon the party listed in Exhibit 1 and the affected state regulatory commissions.

Comment Date: November 21, 2003.

10. Public Service Company of New Hampshire

[Docket No. ER04-130-000]

Take notice that on October 31, 2003, Public Service Company of New Hampshire (PSNH), tendered for filing a new Interconnection and Delivery Service Agreement with the Town of Wolfeboro (Wolfeboro), pursuant to Section 205 of the Federal Power Act and Part 35 of the Commission's regulations on rate schedule modifications. In addition, PSNH states that it submitted a Notice of Cancellation of PSNH's FERC Electric Rate Schedule No. 135 for the sale of partial requirements power service and delivery service to Wolfeboro, which terminates by its own terms on October 31, 2003.

PSNH states that copies of this filing were served upon Wolfeboro, the Office of the Attorney General for the State of New Hampshire, the Executive Director and Secretary of the New Hampshire Public Utilities Commission and the State of New Hampshire Office of Consumer Advocate. PSNH requests an effective date for the Interconnection and Delivery Service Agreement of November 1, 2003, and an effective date for the cancellation of FERC Rate Schedule No. 135 of October 31, 2003.

Comment Date: November 21, 2003.

11. New York State Electric & Gas Corporation

[Docket No. ER04-131-000]

Take notice that on October 31, 2003, New York State Electric & Gas Corporation (NYSEG) tendered for filing an amendment to its Rate Schedule No. 229 providing for the termination of service to certain delivery points effective as of the end of October 31, 2003. NYSEG requests a waiver of the Commission's notice requirements and that the amendment be made effective as of November 1, 2003.

NYSEG states that copies of the amendment have been served on the New York State Public Service Commission and the New York Power Authority and its affected customers.

Comment Date: November 21, 2003.

12. Wolverine Power Supply Cooperative, Inc.

[Docket No. ER04-132-000]

Take notice that on October 31, 2003, Wolverine Power Supply Cooperative, Inc. (Wolverine) tendered for filing proposed changes in its First Revised Rate Schedule FERC No. 4. Wolverine states that the proposed changes amend First Revised Rate Schedule FERC No. 4 by revising, deleting or adding specific rates and provisions respecting Wolverine's wholesale sales of power and energy to Wolverine's distribution cooperative members.

Wolverine states that copies of this filing were served on the public utility's customers, and the Michigan Public Service Commission.

Comment Date: November 21, 2003.

13. Duke Energy Oakland, LLC

[Docket No. ER04-133-000]

Take notice that on October 31, 2003, Duke Energy Oakland, LLC (DEO) pursuant to 16 U.S.C. § 824d, and 18 CFR 35.13, tendered for filing certain revisions to Rate Schedules A and B of DEO's Reliability Must Run (RMR) Agreement with the California Independent System Operator (CAISO) for contract year 2004 and an informational filing.

DEO requests an effective date of January 1, 2004 for these revisions. DEO states that copies of the filing have been served upon the CAISO, Pacific Gas & Electric Company, the Public Utilities Commission of the State of California, and the Electricity Oversight Board of the State of California.

Comment Date: November 21, 2003.

14. Duke Energy South Bay, LLC

[Docket No. ER04-134-000]

Take notice that on October 31, 2003, Duke Energy South Bay, LLC (DESB), pursuant to 16 U.S.C. § 824d, and 18 CFR 35.13, tendered for filing certain revisions to Rate Schedules A and B of DESB's Reliability Must Run Agreement with the California Independent System Operator (CAISO) for contract year 2004 and an informational filing.

DESB requests an effective date of January 1, 2004 for these revisions. DESB states that copies of the filing have been served upon the CAISO, San Diego Gas & Electric Company, the Public Utilities Commission of the State of California, and the Electricity Oversight Board of the State of California.

Comment Date: November 21, 2003.

15. Eurus Combine Hills I LLC

[Docket No. ER04-135-000]

Take notice that on October 31, 2003, Eurus Combine Hills I LLC (Eurus Combine) applied to the Commission for acceptance of Eurus Combine's Electric Tariff FERC No. 1; the granting of certain blanket approvals, including the authority to sell electric energy and capacity at market-based rates; and the waiver of certain Commission regulations.

Comment Date: November 21, 2003.

16. PJM Interconnection, L.L.C.

[Docket No. ER04-136-000]

Take notice that on October 31, 2003, PJM Interconnection, L.L.C. (PJM), submitted for filing a notice of cancellation for an interconnection service agreement (ISA) between PJM and Conectiv Delmarva Generation, Inc. that has terminated.

PJM states that copies of this filing were served upon the parties to the agreement and the state regulatory commissions within the PJM region.

Comment Date: November 21, 2003.

17. Deseret Generation & Transmission Co-operative, Inc.

[Docket No. ER04-137-000]

Take notice that on October 31, 2003, Deseret Generation & Transmission Co-operative, Inc. (Deseret) tendered for filing an amendment to First Revised Service Agreement No. 5 under Deseret's FERC Electric Tariff, Original Volume No. 1 (Original Sheets Nos. 150A through 150H). The filing consists of an Amendment to the Agreement for Large Industrial Rate between Deseret and one of its members, Moon Lake Electric Association Inc. (Moon Lake), for the benefit of Moon Lake's industrial customer, QEP.

Deseret states that copies of this filing have been served upon Deseret's members cooperatives.

Comment Date: November 21, 2003.

18. Deseret Generation & Transmission Co-operative, Inc.

[Docket No. ER04-138-000]

Take notice that on October 31, 2003, Deseret Generation & Transmission Co-operative, Inc. (Deseret) tendered for filing an amendment to First Revised Service Agreement No. 5 under Deseret's FERC Electric Tariff, Original Volume No. 1 (Original Sheets Nos. 279 through 296). The filing consists of an Amendment to the Agreement for Large Industrial Rate between Deseret and one of its members, Moon Lake Electric Association, Inc. (Moon Lake) for the benefit of Moon Lake's industrial customer, QEP. Deseret requests an effective date of November 1, 2003.

Deseret states that copies of this filing have been served upon Deseret's member cooperatives.

Comment Date: November 21, 2003.

19. Michigan Electric Transmission Company, LLC

[Docket No. ER04-139-000]

Take notice that on October 31, 2003, Michigan Electric Transmission Company, LLC (METC) submitted proposed amendments to the following agreements: (1) Project I Transmission Ownership and Operating Agreement Between Consumers Power Company and Michigan South Central Power Agency, dated November 20, 1980; (2) Campbell Unit No. 3 Transmission Ownership and Operating Agreement Between Consumers Power Company and Northern Michigan Electric Cooperative, Inc. and Wolverine Electric Cooperative, Inc., dated August 15, 1980; (3) Campbell Unit No. 3 Transmission Ownership and Operating Agreement Between Consumers Power Company and Michigan Public Power Agency, dated October 1, 1979; (4) Belle River Transmission Ownership and Operating Agreement Between Consumers Power Company and Michigan Public Power Agency, dated December 1, 1982; and (5) Wolverine Transmission Ownership and Operating Agreement Between Consumers Power Company and Wolverine Power Supply Cooperative, Inc., dated July 27, 1992 (collectively, the Customers and the Operating Agreements.). The proposed amendments are intended to allow for the reimbursement to METC for certain Midwest Independent Transmission System Operator, Inc. costs and annual charges associated with the load of the Customers. METC requests an effective date of November 1, 2003 for the proposed amendments.

Comment Date: November 21, 2003.

20. Pacific Gas and Electric Company

[Docket No. ER04-141-000]

Take notice that on October 31, 2003, Pacific Gas and Electric Company (PG&E) submitted rate schedule sheet revisions, to become effective January 1, 2004, to its Reliability Must-Run Service Agreement with the California Independent System operator Corporation (ISO) for Humboldt Bay Power Plant (PG&E First Revised Rate Schedule FERC No. 208). PG&E states that this filing revises portions of the rate schedule and adjusts the applicable rates.

PG&E states that copies of this filing have been served upon the ISO, the California Electricity Oversight Board and the California Public Utility Commission.

Comment Date: November 21, 2003.

21. Pacific Gas and Electric Company

[Docket No. ER04-142-000]

Take notice that on October 31, 2003, Pacific Gas and Electric Company (PG&E) made an informational filing under its Reliability Must-Run Service Agreements with the California Independent System Operator Corporation (ISO) for Helms Power Plant (PG&E First Revised Rate Schedule FERC No. 207), Humboldt Bay Power Plant (PG&E First Revised Rate Schedule FERC No. 208), Hunters Point Power Plant (PG&E First Revised Rate Schedule FERC No. 209), San Joaquin Power Plant (PG&E First Revised Rate Schedule FERC No. 211), and Kings River Watershed (PG&E Rate Schedule FERC No. 226).

PG&E states that copies of this filing have been served upon the ISO, the California Electricity Oversight Board, and the California Public Utilities Commission.

Comment Date: November 21, 2003.

22. Pacific Gas and Electric Company

[Docket No. ER04-143-000]

Take notice that on October 31, 2003, Pacific Gas and Electric Company (PG&E) submitted an annual rate update filing, including rate schedule sheet revisions, to become effective January 1, 2004, to its Reliability Must-Run Service Agreements with the California Independent System Operator Corporation (ISO) for Helms Power Plant (PG&E First Revised Rate Schedule FERC No. 207), Humboldt Bay Power Plant (PG&E First Revised Rate Schedule FERC No. 208), Hunters Point Power Plant (PG&E First Revised Rate Schedule FERC No. 209), San Joaquin Power Plant (PG&E First Revised Rate Schedule FERC No. 211) and Kings River Power Plant (PG&E Rate Schedule FERC No. 226). This filing revises portions of these rate schedules and adjusts the applicable rates as required under the RMR Agreements.

PG& E states that copies of this filing have been served upon the ISO, the California Electricity Oversight Board, and the California Public Utilities Commission.

Comment Date: November 21, 2003.

23. New York Independent System Operator, Inc.

[Docket No. ER04-144-000]

Take notice that on October 31, 2003, the New York System Operator, Inc. (NYISO) tendered for filing proposed revisions to its Market Administration and Control Area Services Tariff (Services Tariff) designed to extend the current methodology and rate used to calculate payments for Voltage Support Service through the end of calendar year 2004. The NYISO has requested that the Commission make the filing effective on January 1, 2004.

The NYISO states it has served a copy of this filing on all persons that have executed Service Agreements under the NYISO Services Tariff or the NYISO Open Access Transmission Tariff, on the New York Public Service Commission, and on the electric utility regulatory agencies in New Jersey and Pennsylvania.

Comment Date: November 21, 2003.

24. Power-Link Systems, Ltd. d/b/a First Choice Energy

[Docket No. ER04-145-000]

Take notice that on October 31, 2003, Power-Link Systems, Ltd., d/b/a/ First Choice Energy (First Choice) tendered for filing a Notice of Cancellation of its market-based rate tariff effective October 31, 2003. First Choice states that it is no longer conducting business.

Comment Date: November 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00273 Filed 11-14-03; 8:45 am]

BILLING CODE 6717-01-P